ENVIRONMENTAL PROTECTION AGENCY

40 CFR Part 52

[PA 4096b; FRL-6578-1]

Approval and Promulgation of Air Quality Implementation Plans; Pennsylvania; Approval of VOC and NOX RACT Determinations for Individual Source

AGENCY: Environmental Protection Agency (EPA).

ACTION: Proposed rule.

SUMMARY: EPA is proposing to approve revisions to the Commonwealth of Pennsylvania's State Implementation Plan (SIP). The revisions establish and require reasonably available control technology (RACT) for 56 major sources of volatile organic compounds (VOC) and nitrogen oxides ( NOX) located in Pennsylvania. In the Final Rules section of this Federal Register, EPA is approving the revisions as a direct final rule without prior proposal because the Agency views these as noncontroversial submittals and anticipates no adverse comments. A more detailed description of the state submittals and EPA's evaluations are included in Technical Support Documents (TSDs) prepared in support of this rulemaking action. Copies of the TSDs are available, upon request, from the EPA Regional Office listed in the ADDRESSES section of this document. If no adverse comments are received in response to this action, no further activity is contemplated. If EPA receives adverse comments, the direct final rule will be withdrawn and all public comments received will be addressed in a subsequent final rule based on this proposed rule. EPA will not institute a second comment period. Any parties interested in commenting on this action should do so at this time. Please note that if adverse comment is received on an amendment, paragraph, or section of this rule and that provision may be severed from the remainder of the rule, EPA may adopt as final those provisions of the rule that are not the subject of an adverse comment.

DATES: Written comments must be received by January 16, 2001.

ADDRESSES: Written comments on this action should be addressed to Makeba Morris, Chief, Permits and Technical Assessment Branch, Air Protection Division, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Pennsylvania Department of Environmental Protection, Bureau of Air Quality Control, P.O. Box 8468, 400 Market Street, Harrisburg, Pennsylvania 17105.

FOR FURTHER INFORMATION CONTACT: Ray Chalmers at (215) 814-2061 for information on sources #1 through #17, Melik Spain at (215) 814-2299 for information on sources #18 through #50, or Helene Drago at (215) 814-5796 for information on sources #51 through 56.

SUPPLEMENTARY INFORMATION: For further information, please see the information provided in the direct final action, with the same title, that is located in the “Rules and Regulations” section of this Federal Register publication.

Editorial note: This document was received at the Office of the Federal Register on December 6, 2000.

Dated: March 23, 2000.
Bradley M. Campbell,
Regional Administrator, Region III.

[FR Doc. 00-31464 Filed 12-14-00; 8:45 am]

BILLING CODE 6560-50-P